DEPARTMENT OF EDUCATION

[Docket No.: ED-2023-SCC-0074]

Agency Information Collection Activities; Submission to the Office of Management and Budget for Review and Approval; Comment Request; HEERF No Cost Extension Request Form

AGENCY: Office of Postsecondary Education (OPE), Department of Education (ED).

ACTION: Notice.

SUMMARY: In accordance with the Paperwork Reduction Act (PRA) of 1995, the Department is proposing an extension without change of a currently approved information collection request (ICR).

DATES: Interested persons are invited to submit comments on or before August 9, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Karen Epps, 202-453-6337.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: HEERF No Cost Extension Request Form.

OMB Control Number: 1840-0864.

Type of Review: An extension without change of a currently approved ICR.

Respondents/Affected Public: State, local, and Tribal governments; private sector.

Total Estimated Number of Annual Responses: 720.

Total Estimated Number of Annual Burden Hours: 360.

Abstract: The Higher Education Emergency Relief Fund (HEERF) authorizes the Secretary of Education to allocate formula grant funds to participating institutions of higher education (IHEs) to address impacts of COVID-19. To date, the Department has made over 18,000 awards to over 5,100 IHEs totaling $76.3 billion. In both volume of grants and amount of funding, HEERF is one of the largest grant programs in agency history.

On June 30, 2023, the project period for most HEERF grants will end and any remaining unliquidated grant funds will be returned to Treasury. Pursuant to 2 CFR 200.308(e)(2) and 34 CFR 75.261(a), grantees have the option to receive up to a twelve-month No-Cost Extension (NCE) of their grant project periods. The Department is requesting approval of an information collection to allow for HEERF grantees to request an extension beyond June 30, 2023, and ensure that grantees have a thought-out plan for using their remaining HEERF grant funds to address the lingering effects and impacts related to COVID-19.

Dated: July 5, 2023.
Kun Mullan,
PRA Coordinator, Strategic Collections and Clearance, Governance and Strategy Division, Office of Chief Data Officer, Office of Planning, Evaluation and Policy Development.

[FR Doc. 2023-14505 Filed 7-7-23; 8:45 am]

BILLING CODE 4000-01-P